DEPARTMENT OF DEFENSE

Department of the Navy

Notice of Intent To Grant Exclusive Patent License; Integrated Composite Construction Systems, LLC

AGENCY: Department of the Navy, DoD.

ACTION: Notice; correction.

SUMMARY: The Department of the Navy published a document in the Federal Register on February 27, 2018, announcing an intent to grant to Integrated Composite Construction Systems, LLC, a revocable, nonassignable, exclusive license. The scope of the intent to license has been revised.

FOR FURTHER INFORMATION CONTACT: Amanda Horansky McKinney, Head, Technology Transfer Office, NRL Code 1004, 4555 Overlook Avenue SW, Washington, DC 20375-5320, telephone 202-767-1644. Due to U.S. Postal delays, please fax 202-404-7920, email: techtran@research.nrl.navy.mil or use courier delivery to expedite response.

Correction

In the Federal Register of February 27, 2018, make the following revision:

1. In the first and second column, on page 8462, revise the SUMMARY caption to read as follows:

Summary: The Department of the Navy hereby gives notice of its intent to grant to Integrated Composite Construction Systems, LLC., a revocable, nonassignable, exclusive license to practice in the field of use of fabrication of silicon carbide nanoparticles and nanorods for use in high performance concrete, in the United States, the Government-owned invention described in U.S. Patent No. 9,120,679: Silicon Carbide Synthesis, Navy Case No. 101,536.//U.S. Patent No. 9,051,186: Silicon Carbide Synthesis from Agricultural Waste, Navy Case No. 101,536.//and any continuations, divisionals, or re-issues thereof.

DATES: Anyone wishing to object to the grant of this license must file written objections along with supporting evidence, if any, not later than July 3, 2018.

Dated: June 12, 2018.
E.K. Baldini,
Lieutenant Commander, Judge Advocate General's Corps, U.S. Navy, Federal Register Liaison Officer.

[FR Doc. 2018-12980 Filed 6-15-18; 8:45 am]

BILLING CODE 3810-FF-P